DEPARTMENT OF COMMERCE

National Oceanic and Atmospheric Administration

50 CFR Part 660

[Docket No. 240514-0137; RTID 0648-XE833]

Fisheries Off West Coast States; Modification of the West Coast Salmon Fisheries; Inseason Action #20

AGENCY: National Marine Fisheries Service (NMFS), National Oceanic and Atmospheric Administration (NOAA), Commerce.

ACTION: Inseason modification of 2024-2025 management measures.

SUMMARY: NMFS announces one inseason action for the 2025 portion of the 2024-2025 ocean salmon fisheries. This inseason action modifies the commercial salmon fisheries in the area from the United States/Canada border to Cape Falcon, Oregon.

DATES: The effective dates for this inseason action is set out in this document under the heading “Inseason Action” and the action remains in effect until superseded or modified.

FOR FURTHER INFORMATION CONTACT: Anna Heeter, (971) 361-8895, Anna.Heeter@noaa.gov.

SUPPLEMENTARY INFORMATION:

Background

The annual management measures for the 2024-2025 ocean salmon fisheries (89 FR 44553, May 21, 2024; 89 FR 53529, June 27, 2024) govern the commercial and recreational fisheries in the area from the United States/Canada border to the United States/Mexico border, effective from 0001 hours Pacific Daylight Time (PDT), May 16, 2024, until the effective date of the 2025-2026 management measures, as published in the Federal Register. These measures include early season fisheries in March through mid-May of 2025 that may be adjusted through inseason action when abundance forecasts for 2025 salmon returns become available. NMFS is authorized to implement inseason management actions to modify fishing seasons, catch limits, and quotas as necessary to provide fishing opportunities while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (United States/Canada border to Cape Falcon, OR) and south of Cape Falcon (SOF) (Cape Falcon, OR, to the United States/Mexico border). The action described in this document affects the NOF commercial salmon fishery, as set out under the heading Inseason Action below.

Consultation with the Council Chairman and representatives for the appropriate State Directors on this inseason action occurred on April 22, 2025. This consultation included representatives from NMFS, Oregon Department of Fish and Wildlife, and Washington Department of Fish and Wildlife. Representatives from the Salmon Advisory Subpanel and the Salmon Technical Team (STT) were also present.

This inseason action was announced on NMFS' telephone hotline and U.S. Coast Guard radio broadcast when the action became effective. (50 CFR 660.411(a)(2)).

Inseason Action

Inseason Action #20

Reason and authorization for the action: The 2024-2025 annual management measures for ocean salmon fisheries (89 FR 44553, May 21, 2024; 89 FR 53529, June 27, 2024) established a May-June commercial salmon fishery that included NOF subarea quotas that were based on information available at the time the 2024 management measures were adopted. The 2024 management measures allow for inseason action to adjust fisheries scheduled to occur from March 15, 2024, through May 15, 2025 (or until the effective date of the 2025 management measures), in response to new information on 2025 salmon stock abundance forecasts and northern salmon fisheries impacts, to keep fisheries impacts within management objectives and consistent with conservation needs. The inseason action includes: (1) revisions to the quota for the NOF May-June fishery to provide additional fishing opportunity in light of higher forecasted stock abundances in 2025; (2) adjustments to decrease landing and possession limits to account for the higher abundance and quota in this area for 2025 versus 2024 and the uncertainty in catch rates with higher forecasts, to preserve the quota for the length of the season, and to manage the quota based on the specifics of each subarea; and, (3) a management measure that allows Washington permitted vessels that catch fish south of Leadbetter to land all species of fish north of Leadbetter Point. This change supports the economics of the Washington permitted fleet by allowing additional fish buyer and moorage port selection and improving the logistics of fishing the subarea and making deliveries. Each of these actions provides greater access to the salmon resource for fishermen, increased stability for the fishery, and increases safety at sea by allowing fishermen to assess weather conditions and land in the closest available port, which is particularly important given the higher landing limits described above and anticipated higher effort levels. In addition, 2024 management measures provide a weekly landing and possession limit based on the calendar week (Thursday—Wednesday). In addition, with the 2025 season starting on May 16, 2025, the fishery week starting on Thursday May 15, 2025 would be reduced to 1 day. This inseason action adjusts the landing and possession limits and expands the land and delivery area for this single day to bridge the gap in the landing week and account for higher abundance levels in 2025. These inseason measures were superseded by the annual management measures for 2025, which published on May 15, 2025.

The Regional Administrator (RA) considered the abundance forecasts for Chinook salmon stocks, the timing of the action relative to the length of the season, and catch levels in the fishery to date which have been higher than anticipated, and determined that the inseason action described above is necessary to meet management and conservation goals set preseason. This inseason action modifies quotas, catch limits and/or fishing seasons, and landing boundaries under 50 CFR 660.409(b)(1)(i) and (v).

Description of the action: Inseason action #20 modifies the ocean salmon troll commercial fishery from the United States/Canada border to Cape Falcon, OR.

Effective dates: Inseason action #20 takes effect for the following areas and dates, and remains in effect until superseded.

• Effective May 1, 2025, the quota for the May-June North of Falcon commercial ocean salmon troll fishery that opens May 1, 2025 will be modified to 36,800 Chinook salmon, no more than 8,000 of which may be caught in the area between the U.S./Canada border the Queets River and no more than 6,000 of which may be caught in the area between Leadbetter Point and Cape Falcon, Oregon.

• Effective May 1, 2025, vessels fishing or in possession of salmon while fishing south of Leadbetter Point must land and deliver all species of fish within the area south of Leadbetter Point, except that Oregon permitted vessels may also land all species of fish in Garibaldi, Oregon, and Washington permitted vessels may also land all species of fish north of Leadbetter Point.

• Effective May 1, 2025, through May 14, 2025, the landing and possession limit for the area between Cape Falcon, Oregon and the U.S./Canada border will be modified to 250 Chinook salmon per vessel per landing week (Thursday through Wednesday).

• Effective May 1, 2025, through May 14, 2025, the landing and possession limit in the area between the U.S./Canada border and the Queets River will be modified to 70 Chinook salmon per vessel per landing week (Thursday through Wednesday).

• Effective May 1, 2025, through May 14, 2025, the landing and possession limit in the area between the Queets River and Leadbetter Point will be modified to 250 Chinook salmon per vessel per landing week (Thursday through Wednesday).

• Effective May 1, 2025, through May 14, 2025, the landing and possession limit in the area between Leadbetter Point and Cape Falcon, Oregon, is 60 Chinook salmon per vessel per landing week (Thursday through Wednesday).

• Effective May 15, 2025, no overall landing and possession limit in effect for the entire area between the U.S./Canada border and Cape Falcon, Oregon, and no subarea limit for the subarea between the Queets River and Leadbetter Point.

• Effective May 15, 2025, the landing and possession limit for the subarea between the U.S./Canada border and the Queets River to 100 Chinook salmon per vessel per landing week (Thursday through Wednesday).

• Effective May 15, 2025, the landing and possession limit in the subarea between Leadbetter Point and Cape Falcon to 80 Chinook salmon per vessel per landing week (Thursday through Wednesday).

All other restrictions and regulations remain in effect as announced for the 2024-2025 ocean salmon fisheries (89 FR 44553, May 21, 2024; 89 FR 53529, June 27, 2024; 89 FR 61355, July 31, 2024; 89 FR 104895, December 26, 2024; 90 FR 13840, March 27, 2025; 90 FR 16090, April 17, 2025) except as previously modified by inseason actions.

As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues this action pursuant to section 305(d) of the MSA. This action is authorized by 50 CFR 660.409, which was issued pursuant to section 304(b) of the MSA, and are exempt from review under Executive Order 12866.

Pursuant to 5 U.S.C. 553(b)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. Delaying this action to allow for prior notice and opportunity for public comment would result in an unnecessary loss of fishing opportunity as this action responds to higher stock abundance forecasts than those on which the measures in place were based. As previously noted, actual notice of the regulatory action was provided to fishers through telephone hotlines and radio notifications. These actions comply with the requirements of the annual management measures for ocean salmon fisheries (88 FR 30235, May 11, 2024), the Pacific Salmon Fishery Management Plan (FMP), and regulations implementing the FMP under 50 CFR 660.409 and 660.411.

There is good cause under 5 U.S.C. 553(d)(3) to waive the 30-day delay in effective date, as a delay in effectiveness of this action would constrain fishing in a manner that is inconsistent with the goals of the FMP, the MSA, and the current management measures.

Authority: 16 U.S.C. 1801 et seq.

Dated: June 18, 2025.
Kelly Denit,
Director, Office of Sustainable Fisheries, National Marine Fisheries Service.

[FR Doc. 2025-11554 Filed 6-23-25; 8:45 am]

BILLING CODE 3510-22-P